FEDERAL COMMUNICATIONS COMMISSION

Information Collection Approved by the Office of Management and Budget (OMB)

AGENCY: Federal Communications Commission.

ACTION: Notice.

SUMMARY: The Federal Communications Commission has received Office of Management and Budget (OMB) approval for a new information collection pursuant to the Paperwork Reduction Act (PRA) of 1995. An agency may not conduct or sponsor a collection of information unless it displays a currently valid OMB control number, and no person is required to respond to a collection of information unless it displays a currently valid OMB control number. Comments concerning the accuracy of the burden estimates and any suggestions for reducing the burden should be directed to the person listed in the FOR FURTHER INFORMATION CONTACT section below.

FOR FURTHER INFORMATION CONTACT: Nicole Ongele, Office of the Managing Director, at (202) 418-2991, or via email: Nicole.Ongele@fcc.gov.

SUPPLEMENTARY INFORMATION:

OMB Control Number: 3060-1241.

OMB Approval Date: September 27, 2017.

OMB Expiration Date: September 30, 2020.

Title: Connect America Phase II Auction Waiver Post-Selection Review.

Form Numbers: FCC Form 5625.

Respondents: Business or other for-profit; Individuals or household; Not-for-profit institutions; State, Local or Tribal Government.

Number of Respondents and Responses: 50 respondents; 150 responses.

Estimated Time per Response: 2-4 hours.

Frequency of Response: Annual reporting requirements, one-time reporting requirements and recordkeeping requirements.

Obligation to Respond: Required to obtain or retain benefits. Statutory authority for this information collection is contained in 47 U.S.C. 151-154, 214 and 254.

Total Annual Burden: 500 hours.

Total Annual Cost: No cost.

Privacy Act Impact Assessment: No impact(s).

Nature and Extent of Confidentiality: There are no assurances of confidentiality. However, the Commission intends to keep the information private to the extent permitted by law. Also, respondents may request materials or information submitted to the Commission believed confidential to be withheld from public inspection under 47 CFR 0.459 of the FCC's rules.

Needs and Uses: The Commission received OMB approval for this new information collection. On January 26, 2017, the Commission released Connect America Fund; ETC Annual Reports and Certifications, WC Docket Nos. 10-90 and 14-58, Order, FCC 17-2 (New York Auction Order), which granted New York a waiver of the Phase II auction program rules, subject to certain conditions. Specifically, the Commission made an amount up to the amount of Connect America Phase II model-based support that Verizon declined in New York—$170.4 million—available to applicants selected in New York's New NY Broadband Program in accordance with the framework adopted in the New York Auction Order.

This information collection addresses the eligibility requirements that New York winning bidders must meet before the Wireline Competition Bureau (Bureau) will authorize them to receive Connect America Phase II support. For each New York winning bid that includes Connect America-eligible areas, the Commission will authorize Connect America support up to the total reserve prices of all of the Connect America Phase II auction eligible census blocks that are included in the bid, provided that New York has committed, at a minimum, the same dollar amount of New York support to the Connect America-eligible areas in that bid. Before Connect America Phase II support is authorized, the Bureau will closely review the winning bidders to ensure that they have met the eligibility requirements adopted by the Commission and that they are technically and financially qualified to meet the terms and conditions of Connect America support. To aid in collecting this information regarding New York State's winning bidders and the applicants' ability to meet the terms and conditions of Connect America Phase II support in a uniform fashion, the Commission has created the proposed new FCC Form 5625, which parties should use in their submissions with the FCC.

Federal Communications Commission.
Marlene H. Dortch,
Secretary, Office of the Secretary.

[FR Doc. 2018-03861 Filed 2-23-18; 8:45 am]

BILLING CODE 6712-01-P